DEPARTMENT OF TRANSPORTATION

Surface Transportation Board

[STB Finance Docket No. 34707]

Kettle Falls International Railway, LLC—Lease and Operation Exemption—BNSF Railway Company ¹

¹ Effective January 22, 2005, the name of The Burlington Northern and Santa Fe Railway Company was changed to “BNSF Railway Company.”

Kettle Falls International Railway, LLC (KFR), a Class III rail carrier, has filed a verified notice of exemption under 49 CFR 1150.41 to lease from BNSF Railway Company (BNSF) and operate approximately 0.50 miles of rail line between milepost 61.0 and milepost 60.5 near Chewelah, WA.

KFR certifies that the projected annual revenues as a result of this transaction will not result in the creation of a Class II or Class I rail carrier, and further certifies that its projected annual revenues will not exceed $5 million.

The transaction was scheduled to be consummated on or shortly after June 3, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34707, must be filed with the Surface Transportation Board, 1925 K Street, NW., Washington, DC 20423-0001. In addition, one copy of each pleading must be served on Karl Morell, Suite 225, 1455 F Street, NW., Washington, DC 20005.

Board decisions and notices are available on our Web site at http://www.stb.dot.gov.

Decided: June 16, 2005.
By the Board, David M. Konschnik, Director, Office of Proceedings.
Vernon A. Williams,
Secretary.

[FR Doc. 05-12382 Filed 6-22-05; 8:45 am]

BILLING CODE 4915-01-P